SECURITIES AND EXCHANGE COMMISSION

17 CFR Parts 210, 229, 231 and 241

[Release Nos. 33-8870A; 34-56945A; File No. S7-29-07]

RIN 3235-AK00

Concept Release on Possible Revisions to the Disclosure Requirements Relating to Oil and Gas Reserves

AGENCY: Securities and Exchange Commission.

ACTION: Correction to concept release.

SUMMARY: This document contains corrections to the concept release to obtain information about the extent and nature of the public's interest in revising oil and gas reserves disclosure requirements which exist in their current form in Regulation S-K and Regulation S-X under the Securities Act of 1933 and the Securities Exchange Act of 1934 which was published on Tuesday, December 18, 2007 (72 FR 71610).

DATES: Comments should be received on or before February 19, 2008.

FOR FURTHER INFORMATION CONTACT: Mellissa Campbell Duru, Attorney-Advisor at (202) 551-3740, Division of Corporation Finance, U.S. Securities and Exchange Commission, 100 F Street, NE., Washington, DC 20549.

SUPPLEMENTARY INFORMATION: The concept release that is the subject of these corrections relate to possible revisions to the disclosure requirements relating to oil and gas reserves.

Correction of Publication

Accordingly, the publication on December 18, 2007, of the Concept Release which was the subject of FR Doc. E7-24384 beginning on page 71610 is corrected as follows:

1. On page 71610 in the first column, 8th line from the bottom, “S7-XX-07” is corrected to read “S7-29-07”.

2. On page 71610 in the second column, 5th line from the top, “S7-XX-07” is corrected to read “S7-29-07”.

Dated: February 11, 2008.
Nancy M. Morris,
Secretary.

[FR Doc. E8-2854 Filed 2-14-08; 8:45 am]

BILLING CODE 8011-01-P